OFFICE OF THE UNITED STATES TRADE REPRESENTATIVE

Modification of U.S. Tariff-Rate Quotas and the Harmonized Tariff Schedule of the United States

AGENCY: Office of the United States Trade Representative.

ACTION: Notice.

SUMMARY: The U.S. Trade Representative is modifying the Harmonized Tariff Schedule of the United States (HTSUS) to divide certain U.S. tariff-rate quotas (TRQs) currently allocated to the European Union (EU), between the EU and the United Kingdom (UK).

DATES: The changes made by this notice are applicable as of January 1, 2022.

FOR FURTHER INFORMATION CONTACT: Roger A. Wentzel, Office of Agricultural Affairs, at 202-395-5124, or Roger_Wentzel@ustr.eop.gov.

SUPPLEMENTARY INFORMATION: On October 17, 2019, the UK and EU agreed to the withdrawal of the UK from the EU and the European Atomic Energy Community (Withdrawal Agreement). As part of the Withdrawal Agreement, the UK and EU agreed to a transition period, which ended on December 31, 2020.

For 2021, the U.S. Trade Representative determined that the UK would continue to be eligible to export under U.S. TRQs allocated to the EU under Additional U.S. Notes 6, 16 to 23, and 25 to Chapter 4 and Additional U.S. Note 5(a) to Chapter 24 of the Harmonized Tariff Schedule of the United States (HTSUS). See Information on 2021 Tariff-Rate Quotas for Exports From the United Kingdom (86 FR 8676).

Beginning in 2022, the U.S. Trade Representative has decided to divide the TRQs allocated to the EU under Additional U.S. Notes 6 and 16 to 18 to Chapter 4 and Additional U.S. Note 5(a) to Chapter 24 of the HTSUS between the EU and the UK according to the average percentage of in-quota imports for the 2013-2015 period and has determined that the UK will have access to a specific in-quota quantity under these notes. The UK otherwise will be eligible to export under U.S. TRQs for Additional U.S. Notes 19 to 23 and 25 to Chapter 4 under the quantities allocated to `other countries or areas.'

Further, to recognize the departure of the UK from the EU, as well as the 2013 accession of Croatia to the EU, the U.S. Trade Representative has modified the definition of the `EU 27' as set out in Note 2 to Chapter 4 to exclude the UK and to include Croatia. The U.S. Trade Representative also has modified the countries listed in the parenthetical definition as part of the European Community in Note 5(a) of Chapter 24 to exclude the UK and listed the UK as a separate country in this note.

Section 404(d)(3) of the Uruguay Round Agreements Act (URAA) (19 U.S.C. 3601(d)(3)) authorizes the President to allocate the in-quota quantity of a TRQ for any agricultural product among supplying countries or customs areas and to modify any allocation as determined appropriate by the President. Section 604 of the Trade Act of 1974, as amended (Trade Act) (19 U.S.C. 2483), authorizes the President to embody in the HTSUS the substance of the relevant provisions of that Act, and of other acts affecting import treatment, and actions thereunder, including the removal, modification, continuance, or imposition of any rate of duty or other import restriction.

In paragraph (3) of Proclamation 6763 of December 23, 1994, the President delegated this authority under section 404(d)(3) of the URAA to the U.S. Trade Representative. In paragraph (2) of Proclamation 6914 of August 26, 1996, the President determined that it is appropriate to authorize the U.S. Trade Representative to exercise the authority under section 604 of the Trade Act to embody in the HTSUS the substance of any action taken by the USTR under section 404(d)(3) of the URAA.

Modification of the HTSUS

Effective with respect to articles entered for consumption, or withdrawn from warehouse for consumption, on or after January 1, 2022:

1. Additional U.S. Note 2 to Chapter 4 of the HTSUS is modified by: (a) Inserting “Croatia,” into the list of countries in alphabetical order; and (b) deleting “the Slovak Republic, Sweden or the United Kingdom” and inserting “the Slovak Republic or Sweden” in lieu thereof.

2. Additional U.S. Note 16 to Chapter 4 of the HTSUS is modified by: (a) Inserting “United Kingdom” into the list of countries in alphabetical order; (b) inserting a quota quantity of “2,213,374” in the Quantity (kg) column for the United Kingdom; (c) deleting the quantity “27,846,224” in the Quantity (kg) column for the EU27; and (d) inserting “25,632,850” in the Quantity (kg) column for the EU27 in lieu thereof.

3. Additional U.S. Note 17 to Chapter 4 of the HTSUS is modified by: (a) Inserting “United Kingdom” into the list of countries in alphabetical order; (b) inserting a quota quantity of “23,617” in the Quantity (kg) column for the United Kingdom; (c) deleting the quantity “2,829,000” in the Quantity (kg) column for the EU27; and (d) inserting “2,805,383” in the Quantity (kg) column for the EU27 in lieu thereof.

4. Additional U.S. Note 18 to Chapter 4 of the HTSUS is modified by: (a) Inserting “United Kingdom” into the list of countries in alphabetical order; (b) inserting a quota quantity of “895,948” in the Quantity (kg) column for the United Kingdom; (c) deleting the quantity “1,313,000” in the Quantity (kg) column for the EU27; and (d) inserting “417,052” in the Quantity (kg) column for the EU27 in lieu thereof.

5. Additional U.S. Note 5(a) to Chapter 24 of the HTSUS is modified by: (a) Deleting “Spain, Sweden, and the United Kingdom” and inserting “Spain, and Sweden” in lieu thereof; (b) inserting “United Kingdom” in the list of countries in alphabetical order; (c) inserting a quota quantity of “44” in the Quantity (metric tons) column for the United Kingdom; (d) deleting the quantity “10,000” in the Quantity (metric tons) column for the EU27; and (e) inserting the quantity “9,956” in the Quantity (metric tons) column for the EU27 in lieu thereof.

Modification of the TRQ Allocation for Butter and Fresh or Sour Cream Containing Over 45 Percent by Weight of Butterfat

The U.S. Department of Agriculture annually publishes in the Federal Register the country allocations for Additional U.S. Note 6 to Chapter 4 in Appendices 1 and 2, pursuant to the Dairy Tariff-Rate Quota Import Licensing Regulation, 7 CFR part 6. With respect to the published in-quota quantity of 96,161 kilograms allocated to the EU 27 for the TRQ in Additional U.S. Note 6 to Chapter 4 of the HTSUS, the U.S. Trade Representative has determined that, effective with respect to articles entered, or withdrawn from warehouse for consumption, on or after January 1, 2022, the UK shall have access to a quantity of not less than 14,062 kilograms and the EU 27 shall have access to a quantity of not less than 82,099 kilograms.

Nora Todd,
Chief of Staff, Office of the United States Trade Representative.

[FR Doc. 2021-14344 Filed 7-2-21; 8:45 am]

BILLING CODE 3290-F1-P